DEPARTMENT OF THE INTERIOR

National Park Service

Chalmette Battlefield Task Force

AGENCY: National Park Service, Interior.

ACTION: Establishment.

SUMMARY: The Secretary of the Interior is establishing the Chalmette Battlefield Task Force to review the condition of federally-owned buildings and artifacts within the boundary of the Chalmette National Cemetery and Chalmette Battlefield units of Jean Lafitte National Historical Park and Preserve, and make recommendations to the National Park Service on improvements.

FOR FURTHER INFORMATION CONTACT: Geraldine Smith, Superintendent, Jean Lafitte National Historical Park and Preserve, 365 Canal Street, Suite 2400, New Orleans, LA 70130; telephone 504-589-3882; fax 504-589-3864.

SUPPLEMENTARY INFORMATON: In accordance with the intent of Congress as expressed in House Report 106-222, the Secretary of the Interior is administratively establishing the Chalmette Battlefield Task Force to advise the National Park Service on the condition of and make recommendations on suggested improvement to the Chalmette Battlefield. The Task Force will be comprised of 13 members appointed by the Secretary of the Interior, as follows:

(a) Superintendent, Jean Lafitte National Historical Park and Preserve;

(b) One representative of the St. Bernard Parish government;

(c) Two representatives of the St. Bernard Parish Council;

(d) One representative of the St. Bernard Port and Harbor Terminal District;

(e) One representative of the Lake Borgne Basin Levee District;

(f) One representative of the Louisiana Society of United States Daughters of 1812;

(g) One representative of the Fazendeville Descendants, as nominated by The Battle Ground Baptist Church;

(h) One representative of the local tourism industry, as nominated by the New Orleans Metropolitan Convention and Visitors Bureau, Inc.;

(i) One representative from nominations by the New Orleans Regional Chamber of Commerce;

(j) One representative of the St. Bernard Historical Society;

(k) One representative from nominations by the Louisiana State Historic Preservation Officer; and

(l) One representative from nominations by the Jackson Barracks Unit of the Louisiana Army National Guard.

Copies of the Task Force's charter will be filed with the appropriate committees of the Congress and with the Library of Congress in accordance with section 9(c) of the Federal Advisory Committee Act (FACA), 5 U.S.C. Appendix.

Records of Meetings: In accordance with requirements of the Federal Advisory Committee Act, the NPS will keep a record of all Task Force meetings.

Administrative Support: To the extent authorized by law, the NPS will fund the costs of the Task Force and provide administrative support and technical assistance for the activities of the Task Force.

Certification: I hereby certify that the administrative establishment of the Chalmette Battlefield Task Force is necessary and in the public interest in connection with the performance of duties imposed on the Department of the Interior by the Act of October 2, 1968, as amended, 16 U.S.C. 1241 et seq.

Dated: October 24, 2001.
Gale A. Norton,
Secretary of the Interior.

[FR Doc. 02-4324 Filed 2-21-02; 8:45 am]

BILLING CODE 4310-70-P